DEPARTMENT OF TRANSPORTATION

Federal Motor Carrier Safety Administration

[Docket No. FMCSA-2016-0116]

Announcement of Household Goods Consumer Protection Working Group Members and First Public Meeting

AGENCY: Federal Motor Carrier Safety Administration (FMCSA), DOT.

ACTION: Notice.

SUMMARY: FMCSA announces the appointment of 15 members to the Household Goods (HHG) Consumer Protection Working Group (HHG Working Group). This group will meet for the first time on January 4-5, 2017. Congress mandated the establishment of the HHG Working Group in the Fixing America's Surface Transportation (FAST) Act. The group is charged with providing recommendations on how to better educate and protect HHG moving customers (consumers) during interstate HHG moves.

DATES: The first HHG Working Group meeting will be held on January 4, 2017 from 9:00 a.m. to 5:00 p.m. and January 5, 2017 from 9:00 a.m. to 12:00 p.m. at the USDOT Headquarters, 1200 New Jersey Avenue SE., Washington, DC 20590. Members of the Working Group and the public should arrive at 8:30 a.m. to facilitate clearance through DOT security. Copies of the agenda will be made available at https://www.fmcsa.dot.gov/fastact/household-goods-consumer-protection-working-group.

FOR FURTHER INFORMATION CONTACT: Kenneth Rodgers, Chief, Commercial Enforcement and Investigations Division, Federal Motor Carrier Safety Administration, U.S. Department of Transportation, 1200 New Jersey Avenue SE., Washington, DC 20590. Phone (202) 366-0073; Email Kenneth.Rodgers@dot.gov.

SUPPLEMENTARY INFORMATION:

FAST Act

Section 5503 of the FAST Act (Pub. L. 114-94) (December 4, 2015) requires the HHG Working Group to provide recommendations to the Secretary of Transportation, through the FMCSA Administrator. The Working Group will operate in accordance with the Federal Advisory Committee Act (FACA). 5 U.S.C. App. 2.

As required by Section 5503 of the FAST Act, the Working Group will make recommendations in three areas relating to “how to best convey to consumers relevant information with respect to the Federal laws concerning the interstate transportation of household goods by motor carrier.” Those areas are:

1. How to condense the FMCSA “Ready to Move ?” tips published in April 2006 (FMCSA-ESA-03-005) into a more consumer friendly format;

2. How best to use state-of-the-art education techniques and technologies (including how to optimize use of the Internet as an educational tool); and

3. How to reduce and simplify the paperwork required of motor carriers and shippers in interstate transportation.

Section 5503 mandates that the Secretary of Transportation appoint a Working Group that is comprised of (i) individuals with expertise in consumer affairs; (ii) educators with expertise in how people learn most effectively; and (iii) representatives of the FMCSA regulated interstate HHG moving industry.

On April 20, 2016, FMCSA solicited applications and nominations of interested persons to serve on the HHG Working Group. Applications and nominations were due on or before May 20, 2016 [81 FR 23354].

The Working Group will terminate one year after the date its recommendations are submitted to the Secretary of Transportation.

Member Information

On October 7, 2016, the Secretary appointed consumer affairs experts Jennifer M. Gartlan (Federal Maritime Commission), Gabriel Meyer (Surface Transportation Board), and Kelsey M. Owen (Better Business Bureau). Representing educators with expertise in how people learn most effectively will be Margaret McQueen (FMCSA National Training Center). Representatives of the FMCSA regulated interstate HHG moving industry are Francisco Acuna (Household Goods Compliance Solutions, Inc.), Thomas A. Balzar (Ohio Trucking Association), Andrew Friedman (PACK RAT LLC), Heather Paraino (MoveRescue), Jonathan Todd (Benesch Friedlander Coplan & Aronoff LLP), Charles L. White (International Association of Movers), Chad W. Hall (All My Sons Moving and Storage), Dan Veoni (American Moving and Storage Association), Thomas J. Carney, (Carney McNicholas), John Esparza (Texas Trucking Association), and Richard Corona (Enterprise Database Corporation).

Meeting Information

Meetings will be open to the general public, except as provided under FACA. Notice of each meeting will be published in the Federal Register at least 15 calendar days prior to the date of the meeting.

For the January 4-5, 2017, meeting, oral comments from the public will be heard from 3:00 p.m.to 4:00 p.m. on January 4, 2017. Should all public comments be exhausted prior to the end of the specified oral comment period, the comment period will close.

Issued on: December 15, 2016.
T.F. Scott Darling, III,
Administrator.

[FR Doc. 2016-30987 Filed 12-22-16; 8:45 am]

BILLING CODE 4910-EX-P